ENVIRONMENTAL PROTECTION AGENCY

40 CFR Part 62

[EPA-R10-OAR-2023-0224; FRL-10859-02-R10]

Partial Approval, Partial Disapproval and Promulgation of State Plans for Designated Facilities and Pollutants; Spokane Regional Clean Air Agency; Control of Emissions From Existing Large Municipal Waste Combustors

AGENCY: Environmental Protection Agency (EPA).

ACTION: Final rule.

SUMMARY: The Environmental Protection Agency (EPA) is taking final action to partially approve and partially disapprove a July 18, 2022, Clean Air Act (CAA) State Plan submitted by the Spokane Regional Clean Air Agency (SRCAA) to establish emission limits for existing large municipal waste combustors (MWC) and to provide for the implementation and enforcement of these limits. SRCAA submitted this State Plan to fulfill its requirements under the CAA in response to the EPA's May 10, 2006, promulgation of Emissions Guidelines and Compliance Times for Large MWC Constructed on or before September 20, 1994 (Emission Guidelines). The EPA is partially approving the State Plan because it meets the requirements of the Emission Guidelines for existing large MWC known to operate in Spokane County, Washington. The EPA is partially disapproving the State Plan because it omits requirements for fluidized bed combustors and air curtain incinerators, which are required elements of a State Plan. This action is being taken under the CAA.

DATES: This rule is effective on January 27, 2025. The incorporation by reference of certain material listed in the rule is approved by the Director of the Federal Register as of January 27, 2025.

ADDRESSES: The EPA has established a docket for this action under Docket ID No. EPA-R10-OAR-2023-0224. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Bryan Holtrop (he/him), at (206) 553-4473 or by email at holtrop.bryan@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

On December 13, 2023 (88 FR 86312), the EPA proposed to approve a section 111(d) State Plan submitted by the SRCAA on July 18, 2022, for existing large municipal waste combustors. SRCAA's submitted State Plan was in response to the May 10, 2006, promulgation of the amended emission guidelines (EG) requirements for Large MWC, 40 CFR part 60, subpart Cb (71 FR 27324). Included within the State Plan are regulations under SRCAA Regulation I, Article VI, Section 6.17, entitled “Standards for Municipal Solid Waste Combustors,” effective July 7, 2022. On July 18, 2022, SRCAA submitted the State Plan.

We proposed to partially approve this plan because we determined that it complies with the relevant CAA requirements, except requirements applicable to fluidized bed combustors and air curtain incinerators. Because these requirements were omitted, we also proposed to partially disapprove the State Plan submittal. Our proposed action contains more information on the plan and our evaluation.

II. Public Comments and EPA Responses

The EPA's proposed action provided a 30-day public comment period. During this period, we received no comments.

III. EPA Action

For the reasons discussed in our proposed rulemaking and in this action, we are finalizing the partial approval and partial disapproval of SWCAA's State Plan for large MWC, which includes SRCAA Regulation I, Article VI, Section 6.17, effective July 7, 2022. Upon the effective date of this action, SWCAA's State Plan will apply to designated large MWC, as defined in 40 CFR 60.32b, in Spokane County, Washington, with the exception of fluidized bed combustors and air curtain incinerators, which will remain subject to Federal Plan requirements under 40 CFR part 62, subpart FFF. We are finalizing this approval because we have determined the State Plan meets the applicable requirements under 40 CFR part 60, subparts B and Cb, except for the requirements noted as the basis for our partial disapproval above.

IV. Incorporation by Reference

In accordance with the requirements of 1 CFR 51.5, the EPA is finalizing regulatory text that includes the incorporation by reference of SRCAA Regulation I, Article VI, Section 6.17, “Standards for Municipal Solid Waste Combustors” with an effective date of July 7, 2022. These regulatory provisions are part of the CAA State Plan applicable to existing Large MWC in Spokane County, Washington as discussed in Section I of this preamble. They establish requirements related to emission limitations, compliance times, testing, monitoring, reporting, and recordkeeping applicable to Large MWC in Spokane County, Washington that commenced construction on or before September 20, 1994. These provisions set forth requirements meeting criteria required by the amended Emissions Guidelines for existing Large MWC codified at 40 CFR part 60, subpart Cb. The EPA has made, and will continue to make, the entire SRCAA State Plan, generally available through https://www.regulations.gov, Docket No. EPA-R10-OAR-2023-0224, and at the EPA Region 10 Office (please contact the person identified in the FOR FURTHER INFORMATION CONTACT section of this preamble for more information). This incorporation by reference has been approved by the Office of the Federal Register, and the State Plan is Federally enforceable under the CAA as of the effective date of this final rule.

V. Statutory and Executive Order Reviews

In reviewing State Plan submissions, the EPA's role is to approve State choices, provided that they meet the criteria of the CAA. Accordingly, this action merely approves State law as meeting Federal requirements and does not impose additional requirements beyond those imposed by State law. For that reason, this action:

• Is not a “significant regulatory action” subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the CAA.

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements Executive Order 12898 and defines EJ as, among other things, the just treatment and meaningful involvement of all people, regardless of income, race, color, national origin, or Tribal affiliation, or disability in agency decision-making and other Federal activities that affect human health and the environment.”

The air agency did not evaluate environmental justice considerations as part of its submittal; the Clean Air Act and applicable implementing regulations neither prohibit nor require such an evaluation. The EPA did not perform an EJ analysis and did not consider EJ in this action. Due to the nature of this action, it is expected to have a neutral to positive impact on the air quality of the affected area. Consideration of EJ is not required as part of this action, and there is no information in the record inconsistent with the stated goal of Executive Order 12898 of achieving environmental justice for communities with EJ concerns.

In addition, the SRCAA State Plan is not approved to apply on any Indian reservation land or in any other area where the EPA or an Indian Tribe has demonstrated that a Tribe has jurisdiction. In those areas of Indian country, this rule would not have Tribal implications as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 25, 2025. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).

List of Subjects in 40 CFR Part 62

Environmental protection, Administrative practice and procedure, Air pollution control, Hazardous substances, Incorporation by reference, Intergovernmental relations, Reporting and recordkeeping requirements, Waste treatment and disposal.

Dated: December 17, 2024.
Daniel Opalski,
Acting Regional Administrator, Region 10.

For the reasons stated in the preamble, the Environmental Protection Agency amends 40 CFR part 62 as follows:

PART 62—APPROVAL AND PROMULGATION OF STATE PLANS FOR DESIGNATED FACILITIES AND POLLUTANTS

1. The authority citation for part 62 continues to read as follows:

Authority: 42 U.S.C. 7401 et seq.

2. Add §§ 62.11880, 62.11881, and 61.18822 to subpart WW to read as follows:

Subpart WW—Washington
Sec.
62.11880 Identification of plan—Spokane Regional Clean Air Agency.
62.11881 Identification of sources—Spokane Regional Clean Air Agency.
62.11882 Effective date—Spokane Regional Clean Air Agency.
* * * * *

§ 62.11880 Identification of plan—Spokane Regional Clean Air Agency.

(a) The plan for the control of emissions from existing large municipal waste combustors, submitted by the Spokane Regional Clean Air Agency on July 18, 2022, to implement the emission guideline of 40 CFR part 60, subpart Cb, applies to all existing Large MWC in Spokane County, Washington meeting the requirements as stated in their State regulations. The plan includes the regulatory provisions cited in paragraph (b)(2) of this section, which the EPA incorporates by reference.

(b)(1) The material incorporated by reference in this section was approved by the Director of the Federal Register in accordance with 5 U.S.C. 552(a) and 1 CFR part 51. You may obtain copies from the EPA Docket Center—Public Reading Room, EPA West Building, Room 3334, 1301 Constitution Avenue NW, Washington, DC 20004, (202) 566-1744; the U.S. EPA, Region 10 office, (206) 553-1200; or the source in paragraph (b)(2) of this section. You may inspect the material at the National Archives and Records Administration (NARA). For information on the availability of this material at NARA, visit www.archives.gov/federal-register/cfr/ibr-locations or email fr.inspection@nara.gov.

(2) Spokane Regional Clean Air Agency, 1610 S Technology Blvd., Suite 101, Spokane, WA 99224; phone: (509) 477-4727; website: https://spokanecleanair.org.

(i) SRCAA Regulation I, Article VI, Section 6.17: Standards for Municipal Solid Waste Combustors, effective July 7, 2022.

(ii) [Reserved]

§ 62.11881 Identification of sources—Spokane Regional Clean Air Agency.

The plan in § 62.11880 applies to all existing large municipal waste combustors in the Spokane County, Washington, excluding Indian country, constructed on or before September 20, 1994.

§ 62.11882 Effective date—Spokane Regional Clean Air Agency.

The effective date of the plan identified in § 62.11880 and submitted on July 18, 2022, by the Spokane Regional Clean Air Agency for existing large municipal waste combustors is January 27, 2025.

[FR Doc. 2024-30535 Filed 12-26-24; 8:45 am]

BILLING CODE 6560-50-P